DEPARTMENT OF COMMERCE

National Oceanic and Atmospheric Administration

[I.D.100603F]

Endangered and Threatened Species; Take of Anadromous Fish

AGENCY: National Marine Fisheries Service (NMFS), National Oceanic and Atmospheric Administration (NOAA), Commerce.

ACTION: Issuance of enhancement of survival permit (1425).

SUMMARY: On August 7, 2003, NMFS' Northwest Region issued permit 1425 (described in the SUPPLEMENTARY INFORMATION section below) under the Endangered Species Act (ESA) allowing take of threatened species for enhancement of survival actions.

ADDRESSES: The applications and related documents are available for review during business hours by appointment at NMFS' Washington State Branch Office, Habitat Conservation Division, 510 Desmond Drive SE, Suite 103, Lacy, WA 98503 (phone: 360-753-9530).

FOR FURTHER INFORMATION CONTACT: Stephanie Ehinger, Lacey, WA, Telephone: (360) 534-9341, fax: (360) 753-9517, e-mail: stephanie.ehinger@noaa.gov; or Dan Guy at the same office, Telephone: 360-534-9342, email: dan.guy@noaa.gov.

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Scientific research and/or enhancement permits are issued under Section 10(a)(1)(A) of the ESA in accordance with and subject to the ESA and NMFS regulations governing listed fish and wildlife permits (50 CFR parts 222-226). Authority to take listed species is subject to conditions set forth in the permits.

Species Covered in this Notice

The following ESA-listed species and evolutionary significant units (ESUs) are covered in this notice:

Threatened Lower Columbia River (LCR) Chinook salmon (Oncorhynchus tshawytscha)

Threatened Columbia River (CR) Chum salmon (O. keta).

Threatened LCR Steelhead (O. mykiss)

Take Summary

For the benefit of 29 restoration projects over a five year period, a maximum number of 48 juvenile steelhead and two juvenile spring chinook are expected to be killed. That equates to an annual take of 10 juvenile steelhead resulting from six projects. Conservatively estimating take in several instances involved intentionally inflated numbers. The number of dead juveniles could be much lower. Still, 48 dead juveniles (and 10 per year) is a small number as a portion of the total Lewis River steelhead outmigration. Steelhead smolt production for Cedar Creek, where most of the North Fork production occurs, averages 3600. Data for the East Fork were not available. Even if steelhead production in the Lewis River was limited to the average 3,600 from Cedar Creek, 10 steelhead would be 0.3 percent of the run. The effect on the entire LCR evolutionary significant unit (ESU) is smaller yet. NMFS does not have data available to calculate the percentage of summer rearing chinook smolts that may be killed. But, NMFS expects the effect to be even smaller, because the vast majority of the chinook will not be in the system during construction. Thus, the percentage of the smolts that are likely to be taken is much lower than the 0.3 percent for the Lewis River steelhead run.

Notice was published on April 2, 2003 (68 FR 15996), that Fish First, a non-profit organization based in southwest Washington State, applied for an enhancement of survival permit under section 10(a)(1)(A) of the ESA. NMFS issued permit 1425 on August 7, 2003, authorizing annual takes of the threatened salmonids listed above in the Lewis River basin. Permit 1425 expires on August 10, 2008.

Dated: October 9, 2003.
Phil Williams,
Chief, Endangered Species Division, Office of Protected Resources, National Marine Fisheries Service.

[FR Doc. 03-26196 Filed 10-15-03; 8:45 am]

BILLING CODE 3510-22-S